DEPARTMENT OF AGRICULTURE

Animal and Plant Health Inspection Service

[Docket No. 00-097-1]

Notice of Request for an Extension of a Currently Approved Information Collection

AGENCY: Animal and Plant Health Inspection Service, USDA.

ACTION: Extension of approval of an information collection; comment request.

SUMMARY: In accordance with the Paperwork Reduction Act of 1995, this notice announces the Animal and Plant Health Inspection Service's intention to request an extension of a currently approved information collection to gather data on West Nile virus.

DATES: We invite you to comment on this docket. We will consider all comments that we receive by July 16, 2001.

ADDRESSES: Please send four copies of your comment (an original and three copies) to: Docket No. 00-097-1, Regulatory Analysis and Development, PPD, APHIS, Suite 3C03, 4700 River Road, Unit 118, Riverdale, MD 20737-1238. Please state that your comment refers to Docket No. 00-097-1.

You may read any comments that we receive on this docket in our reading room. The reading room is located in room 1141 of the USDA South Building, 14th Street and Independence Avenue SW., Washington, DC. Normal reading room hours are 8 a.m. to 4:30 p.m., Monday through Friday, except holidays. To be sure someone is there to help you, please call (202) 690-2817 before coming.

APHIS documents published in the Federal Register, and related information, including the names of organizations and individuals who have commented on APHIS dockets, are available on the Internet at http://www.aphis.usda.gov/ppd/rad/webrepor.html.

FOR FURTHER INFORMATION CONTACT: For information on the West Nile virus collection activities, contact Dr. Randall Crom, Senior Staff Veterinarian, Emergency Programs, Veterinary Services, APHIS, 4700 River Road Unit 41, Riverdale, MD 20737; (301) 734-8073. For copies of more detailed information on the information collection, contact Mrs. Celeste Sickles, APHIS' Information Collection Coordinator, at (301) 734-7477.

SUPPLEMENTARY INFORMATION: Title: West Nile Virus Surveillance Project.

OMB Number: 0579-0162.

Expiration Date of Approval: June 30, 2001.

Type of Request: Extension of approval of an information collection.

Abstract: The Animal and Plant Health Inspection Service (APHIS), Veterinary Services (VS), is responsible for protecting the health of our Nation's livestock and poultry by controlling and eradicating contagious, infectious, or communicable animal diseases. Veterinary Services'Emergency Programs unit coordinates APHIS' roles and responsibilities in planning for and responding to emerging or exotic animal diseases.

In 1999, West Nile virus (WNV), which can cause encephalitis, an inflammation of the brain, was first identified in the United States in wild birds, mosquitoes, humans, and equines. Clinical illness in humans and equines occurred during early August through late October 1999, with 62 human cases, including 7 deaths, and 25 equine cases, including 9 deaths. Because the virus is transmitted by mosquitoes, it has the potential to affect humans, livestock, and poultry. No treatment or vaccine is currently available.

In 2000, WNV was detected in humans, equines, other mammals, birds, and mosquitoes in the northeastern United States and in one crow in North Carolina. Of the 21 additional cases of WNV confirmed in humans in 2000, two deaths have been reported. Of the 59 cases confirmed in equines in 2000, 23 equines died or were euthanized. The equine cases were confirmed in Connecticut, Delaware, Massachusetts, New Jersey, New York, Pennsylvania, and Rhode Island. The three equine cases in Delaware were the first cases of WNV to be documented in that State. Over 4,300 dead birds and 480 mosquito pools were documented as positive for WNV in 12 States and the District of Columbia. A dead crow tested positive for WNV in North Carolina, making that the first confirmation of the presence of WNV in that southeastern State. More data on the distribution of WNV is available online at http://www.aphis.usda.gov/oa/wnv/wnvstats.html.

Under an approved emergency information collection, data was collected on equines infected in 2000 from equine owners in up to five States in the northeastern United States. We collected data on equines infected in 2000, the premises on which they reside, and on equines and premises in the immediate area of the infected equines. We will analyze the data in an attempt to explain equine or premises risk factors for WNV infection. Extending the approval for an additional 3 years will allow additional epidemiologic data to be collected and analyzed.

We are asking the Office of Management and Budget (OMB) to approve the WNV information collection activity for an additional 3 years.

The purpose of this notice is to solicit comments from the public (as well as affected agencies) concerning our information collection. These comments will help us:

(1) Evaluate whether the collection of information is necessary for the proper performance of the functions of the Agency, including whether the information will have practical utility;

(2) Evaluate the accuracy of our estimate of the burden of the information collection, including the validity of the methodology and assumptions used;

(3) Enhance the quality, utility, and clarity of the information to be collected; and

(4) Minimize the burden of the information collection on those who are to respond, through use, as appropriate, of automated, electronic, mechanical, and other collection technologies, e.g., permitting electronic submission of responses.

Estimate of burden: The public reporting burden for this collection of information is estimated to average 1.125 hours per response.

Respondents: Equine owners.

Estimated annual number of respondents: 420.

Estimated annual number of responses per respondent: 2.

Estimated annual number of responses: 840.

Estimated total annual burden on respondents: 945 hours.

All responses to this notice will be summarized and included in the request for OMB approval. All comments will also become a matter of public record.

Done in Washington, DC, this 11th day of May 2001.
Richard L. Dunkle,
Acting Administrator, Animal and Plant Health Inspection Service.

[FR Doc. 01-12429 Filed 5-16-01; 8:45 am]

BILLING CODE 3410-34-P